DEPARTMENT OF TRANSPORTATION

Federal Aviation Administration

14 CFR Part 39

[Docket No. 2000-NM-201-AD]

Airworthiness Directives; Israel Aircraft Industries, Ltd., Model Galaxy Airplanes

AGENCY: Federal Aviation Administration, DOT.

ACTION: Proposed rule; withdrawal.

SUMMARY: This action withdraws a notice of proposed rulemaking (NPRM) that proposed a new airworthiness directive (AD), applicable to certain Israel Aircraft Industries, Ltd., Model Galaxy airplanes. That action would have required replacement of certain existing fasteners in the aft pickup fittings of the horizontal stabilizer. Since the issuance of the NPRM, the Federal Aviation Administration (FAA) has received information from Galaxy Aerospace Company indicating that the replacement has already been carried out on all the affected airplanes and that the replacement is now standard on all airplanes off the production line. Accordingly, the proposed rule is withdrawn.

FOR FURTHER INFORMATION CONTACT: Dan Rodina, Aerospace Engineer, ANM-116, FAA, Transport Airplane Directorate, 1601 Lind Avenue, SW., Renton, Washington 98055-4056; telephone (425) 227-2125; fax (206) 227-1149.

SUPPLEMENTARY INFORMATION: A proposal to amend part 39 of the Federal Aviation Regulations to add a new airworthiness directive (AD), applicable to certain Israel Aircraft Industries, Ltd., Model Galaxy airplanes, was published in the Federal Register on October 30, 2000 (65 FR 64631). The proposed rule would have required replacement of certain existing fasteners in the aft pickup fittings of the horizontal stabilizer. That action was prompted by information from the Civil Aviation Administration of Israel (CAAI), which is the airworthiness authority for Israel, indicating that early fatigue failure of the fasteners that support the aft pickup fittings of the horizontal stabilizer can occur. The proposed actions were intended to prevent such fatigue failure, which could result in reduced structural integrity of the empennage.

Actions That Occurred Since the NPRM Was Issued

Since the issuance of that NPRM, the FAA has received a comment from Galaxy Aerospace Company indicating that the replacement of the fasteners in the aft pickup fittings of the horizontal stabilizers has been accomplished on all the affected airplanes. Therefore, Galaxy requested the FAA to withdraw the proposed rule.

FAA's Conclusions

The FAA agrees that there is no need to issue the proposed AD, if all of its requirements have already been accomplished. The FAA, therefore, withdraws the proposed AD.

Withdrawal of this NPRM constitutes only such action, and does not preclude the agency from issuing another notice in the future, nor does it commit the agency to any course of action in the future.

Regulatory Impact

Since this action only withdraws a NPRM, it is neither a proposed nor a final rule and therefore, is not covered under Executive Order 12866, the Regulatory Flexibility Act, or DOT Regulatory Policies and Procedures (44 FR 11034, February 26, 1979).

List of Subjects in 14 CFR Part 39

Air transportation, Aircraft, Aviation safety, Safety.

The Withdrawal

Accordingly, the notice of proposed rulemaking, Docket 2000-NM-201-AD, published in the Federal Register October 30, 2000 (65 FR 64631), is withdrawn.

Issued in Renton, Washington, on April 16, 2001.
Donald L. Riggin,
Acting Manager, Transport Airplane Directorate, Aircraft Certification Service.

[FR Doc. 01-9880 Filed 4-20-01; 8:45 am]

BILLING CODE 4910-13-P